ENVIRONMENTAL PROTECTION AGENCY

[CERCA-04-2012-3754, FRL-9619-9]

Constitution Road Drum Superfund Site; Atlanta, Dekalb County, GA; Notice of Settlement

AGENCY: Environmental Protection Agency.

ACTION: Notice of settlement.

SUMMARY: Under Section 122(h)(1) of the Comprehensive Environmental Response, Compensation and Liability Act (CERCLA), the United States Environmental Protection Agency has entered into a settlement for past response costs concerning the Constitution Road Drum Superfund Site located in Atlanta, Dekalb County, Georgia.

DATES: The Agency will consider public comments on the settlement until February 21, 2012. The Agency will consider all comments received and may modify or withdraw its consent to the settlement if comments received disclose facts or considerations which indicate that the settlement is inappropriate, improper, or inadequate.

ADDRESSES: Copies of the settlement are available from Ms. Paula V. Painter. Submit your comments by Site name Constitution Road Drum Superfund Site by one of the following methods:

• www.epa.gov/region4/waste/sf/enforce.htm.

• Email. Painter.Paula@epa.gov

FOR FURTHER INFORMATION CONTACT: Paula V. Painter at (404) 562-8887.

Dated: January 4, 2012.
Anita L. Davis,
Chief, Superfund Enforcement & Information Management Branch, Superfund Division.

[FR Doc. 2012-1115 Filed 1-19-12; 8:45 am]

BILLING CODE 6560-50-P